DEPARTMENT OF THE INTERIOR

Office of the Secretary

Delaware & Lehigh National Heritage Corridor Commission Meeting

AGENCY: Office of the Secretary, Department of the Interior.

ACTION: Notice of meeting.

SUMMARY: This notice announces an upcoming meeting of the Delaware & Lehigh National Heritage Corridor Commission. Notice of this meeting is required under the Federal Advisory Committee Act (Pub. L. 92-463).

DATES: Friday, May 9, 2003; time, 2 p.m. to 4 p.m.

ADDRESSES: James A. Michener Art Museum, 138 South Pine Street, Doylestown PA 18901.

The agenda for the meeting will focus on implementation of the Management Action Plan for the Delaware and Lehigh National Heritage Corridor and State Heritage Park. The Commission was established to assist the Commonwealth of Pennsylvania and its political subdivisions in planning and implementing an integrated strategy for protecting and promoting cultural, historic and natural resources. The Commission reports to the Secretary of the Interior and to Congress.

FOR FURTHER INFORMATION CONTACT: C. Allen Sachse, Executive Director, Delaware & Lehigh National Heritage Corridor Commission, 1 South Third Street, 8th Floor, Easton PA 18042. (610) 923-3548).

SUPPLEMENTARY INFORMATION: The Delaware & Lehigh National Heritage Corridor Commission was established by Pub. L. 100-692, November 18, 1988 and extended through Pub. L. 105-355, November 13, 1998.

Dated: April 23, 2003.
C. Allen Sachse,
Executive Director, Delaware & Lehigh National Heritage Corridor Commission.

[FR Doc. 03-10637 Filed 4-29-03; 8:45 am]

BILLING CODE 4310-10-M